DEPARTMENT OF ENERGY

Federal Energy Regulatory Commission

[Docket No. AD12-12-000]

Coordination between Natural Gas and Electricity Markets; Supplemental Notice of Technical Conference

As announced in the Notice issued on December 7, 2012,¹ the Federal Energy Regulatory Commission (Commission) staff will hold a technical conference on Wednesday, February 13, 2013 from 9:00 a.m. to approximately 5:00 p.m. to discuss information sharing and communications issues between natural gas and electric power industry entities. The conference will be held at the Federal Energy Regulatory Commission, 888 First Street NE., Washington, DC 20426. The agenda and list of roundtable participants for this conference is attached. This conference is free of charge and open to the public. Commission members may participate in the conference.

¹ Coordination between Natural Gas and Electricity Markets, Docket No. AD12-12-000 (December 7, 2012) (Notice Of Request for Comments and Technical Conference) (http://elibrary.ferc.gov/IDMWS/common/opennat.asp?fileID=13126954);

If you have not already done so, those who plan to attend the technical conference are strongly encouraged to complete the registration form located at: https://www.ferc.gov/whats-new/registration/gas-elec-mkts-02-13-13-form.asp. There is no deadline to register to attend the conference.

The technical conference will not be transcribed. However, there will be a free webcast of the conference. The webcast will allow persons to listen to the technical conference, but not participate. Anyone with Internet access who wants to listen to the conference can do so by navigating to the Calendar of Events at www.ferc.gov and locating the technical conference in the Calendar. The technical conference will contain a link to its webcast. The Capitol Connection provides technical support for the webcast and offers the option of listening to the meeting via phone-bridge for a fee. If you have any questions, visit www.CapitolConnection.org or call 703-993-3100.²

² The webcast will continue to be available on the Calendar of Events on the Commission's Web site www.ferc.gov for three months after the conference.

Notice is also hereby given that the discussions at the conference may address matters at issue in the following Commission proceeding(s) that are either pending or within their rehearing period: ISO New England Inc., Docket No. ER13-356-000.

Information on the technical conference will be posted on the Web site http://www.ferc.gov/industries/electric/indus-act/electric-coord.asp, as well as the Calendar of Events on the Commission's web site, http://www.ferc.gov, prior to the conference.

Commission conferences are accessible under section 508 of the Rehabilitation Act of 1973. For accessibility accommodations, please send an email to accessibility@ferc.gov or call toll free 1-866-208-3372 (voice) or 202-502-8659 (TTY), or send a FAX to 202-208-2106 with the required accommodations.

For more information about the technical conference, please contact:

Caroline Daly (Technical Information), Office of Energy Policy and Innovation, Federal Energy Regulatory Commission, 888 First Street NE., Washington, DC 20426, (202) 502-8931, Caroline.Daly@ferc.gov.

Anna Fernandez (Legal Information), Office of General Counsel, Federal Energy Regulatory Commission, 888 First Street NE., Washington, DC 20426, (202) 502-6682, Anna.Fernandez@ferc.gov.

Sarah McKinley (Logistical Information), Office of External Affairs, Federal Energy Regulatory Commission, 888 First Street NE., Washington, DC 20426, (202) 502-8004, Sarah.McKinley@ferc.gov.

Dated: January 29, 2013.
Nathaniel J. Davis, Sr.,
Deputy Secretary.

[FR Doc. 2013-02652 Filed 2-5-13; 8:45 am]

BILLING CODE 6717-01-P